SECURITIES AND EXCHANGE COMMISSION

Issuer Delisting; Notice of Application of Bio-Imaging Technologies, Inc. To Withdraw Its Common Stock, $.00025 Par Value, From Listing and Registration on the American Stock Exchange LLC File No. 1-11182

December 17, 2003.

Bio-Imaging Technologies, Inc., a Delaware corporation (“Issuer”), has filed an application with the Securities and Exchange Commission (“Commission”), pursuant to section 12(d) of the Securities Exchange Act of 1934 (“Act”)¹ and Rule 12d2-2(d) thereunder,² to withdraw its common stock, $.00025 par value (“Security”), from listing and registration on the American Stock Exchange LLC (“Amex” or “Exchange”).

¹ 15 U.S.C. 78l(d).

² 17 CFR 240.12d2-2(d).

The Board of Directors (“Board”) of the Issuer unanimously approved a resolution on November 5, 2003 to withdraw the Issuer's Security from listing on the Amex and to list the Security on the Nasdaq National Market System (“Nasdaq NMS”). The Board states that it is taking such action because the Board believes that listing on the Nasdaq NMS will provide additional liquidity to the Issuer's stockholders and provide additional benefits to the Issuer and its stockholders such as, among other things, greater coverage by analysts and greater interest by institutional investors.

The Issuer stated in its application that it has met the requirements of Amex Rule 18 by complying with all applicable laws in Delaware, in which it is incorporated, and with the Amex's rules governing an issuer's voluntary withdrawal of a security from listing and registration.

The Issuer's application relates solely to the withdrawal of the Securities from listing on the Amex and from registration under section 12(b) of the Act ³ and shall not affect its obligation to be registered under section 12(g) of the Act.⁴

³ 15 U.S.C. 78l(b).

⁴ 15 U.S.C. 78l(g).

Any interested person may, on or before January 9, 2004, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-31547 Filed 12-22-03; 8:45 am]

BILLING CODE 8010-01-P